DEPARTMENT OF DEFENSE

Department of the Air Force

Proposed Collection; Comment Request

AGENCY: Department of the Air Force, DoD.

ACTION: Notice.

In compliance with section 3506(c)(2)(A) of the Paperwork Reduction Act of 1995, the Department of Defense Medical Examination Review Board announces the proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms or information technology.

DATES: Consideration will be given to all comments received by January 26, 2001.

ADDRESSES: Written comments and recommendations on the proposed information collection should be sent to SAF/PAX, Air Force Public Affairs, 1690 Air Force Pentagon, Washington, DC 20330-1690, Attention: Lt Col Anne Morris.

FOR FURTHER INFORMATION CONTACT: To request more information on this proposed information collection or to obtain a copy of the proposal and associated collection instruments, please write to the above address, or call SAF/PAX at (703) 692-6228.

Title: The Public and the United States Air Force (USAF): Recruiting and Retention Challenges.

Needs and Uses: For the first time in its history, the USAF is struggling to meet its recruiting goals. The USAF also faces the challenge of improving retention levels for those people who have joined the Air Force. A combination of environmental factors, including increasing operations tempo, frequency and length of deployments and the robust American economy of the past few years have rendered continuing service in the USAF less desirable for some of its members. Both recruitment and retention challenges impact the Air Force's ability to sustain mandated end strength. To address these requirements and challenges, the USAF has launched the first paid network television advertising campaign in its history. New television advertisements began airing in September 2000 as a primary element of a focused national campaign to tell the Air Force story to Americans and, in the process, address recruiting and retention challenges. Continued audience research is needed to guide evaluation of the campaign's effectiveness and planning of future campaigns.

Affected Public: Residents (15 years and older) of telephone-equipped households in the U.S.

Annual Burden Hours: 1,000.

Number of Respondents: 4,500.

Responses Per Respondent: 1.

Average Burden Per Response: 13.3 Minutes.

Frequency: At roughly 3-month intervals.

SUPPLEMENTARY INFORMATION:

Summary of Information Collection

These three surveys will serve multiple purposes. They will gauge recruitment-age youth's and their influencers' awareness of, familiarity with, attitudes about and feelings toward the Air Force. These measures will be made at roughly 3-month intervals during the course of the current USAF television advertising campaign, giving insight into the communication initiative's ongoing performance. The surveys will allow direct comparison of target youth and influential adult thinking about factors affecting recruitment decision-making. Findings from these surveys of the civilian population also will be compared with similar data to be gathered from the internal USAF population at approximately the same time, providing a valuable head-to-head comparison of civilians' and Air Force people's perceptions of what the Air Force does and why a young person should want to join.

Janet A. Long,
Air Force Federal Register Liaison Officer.

[FR Doc. 00-30128 Filed 11-24-00; 8:45 am]

BILLING CODE 5001-05-U